DEPARTMENT OF VETERANS AFFAIRS

Advisory Committee: National Academic Affiliations Council, Notice of Meeting, Amended

The Department of Veterans Affairs (VA) gives notice under the Federal Advisory Committee Act, 5 U.S.C. app. 2, that a meeting of the National Academic Affiliations Council (NAAC) scheduled to be held September 28, 2022-September 29, 2022 at the Orlando VA Health Care System, 13800 Veterans Way, Orlando, FL, 32827 will be converted to a one-day virtual meeting session on September 28, 2022. The amendment resulted in a decision made by VA Leadership in anticipation of the hurricane and in accordance with Federal Emergency Management Agency guidance. Most topics initially scheduled for the two-day meeting agenda will be rescheduled for a future meeting.

The purpose of the Council is to advise the Secretary on matters affecting partnerships between VA and its academic affiliates.

On September 28, 2022, the Council will convene an open session from 1:00 p.m. to 3:00 p.m. The agenda will include a presentation on Innovative Academic Relationships: A National Perspective. The Council will also receive updates from the Diversity and Inclusion Subcommittee, the Strategic Academic Advisory Council (SAAC), VA's Electronic Health Record Modernization Work Group related to education and research; and a status update from the Affiliation Partnership Council Subcommittee's Disbursement Workgroup.

Interested persons may attend and/or present oral statements to the Council.

The dial in number to attend the conference call is: 669-254-5252. At the prompt, enter meeting ID 161 228 4971, then press #. The meeting passcode is 101465, then press #. Individuals seeking to present oral statements are invited to submit a 1-2 page summary of their comments at the time of the meeting for inclusion in the official meeting record. Oral presentations will be limited to five minutes or less, depending on the number of participants. Interested parties may also provide written comments for review by the Council prior to the meeting or at any time, by email to Larissa.Emory@va.gov, or by mail to Larissa A. Emory PMP, CBP, MS, Designated Federal Officer, Office of Academic Affiliations (14AA), 810 Vermont Avenue NW, Washington, DC 20420. Any member of the public wishing to participate or seeking additional information should contact Ms. Emory via email or by phone at (915) 269-0465.

Dated: September 26, 2022.
Jelessa M. Burney,
Federal Advisory Committee Management Officer.

[FR Doc. 2022-21138 Filed 9-28-22; 8:45 am]

BILLING CODE 8320-01-P